DEPARTMENT OF JUSTICE

National Institute of Justice

[OJP (NIJ)-1301]

Announcement of the Availability of the “NIJ Science and Technology Solicitation”

AGENCY: Office of Justice Programs, National Institute of Justice, Justice.

ACTION: Notice of solicitation.

SUMMARY: Announcement of the availability of the National Institute of Justice “NIJ Science and Technology Solicitation.”

DATES: Proposals must be received by 4 p.m. ET on Tuesday, October 24, 2000.

ADDRESSES: National Institute of Justice, 810 Seventh Street, NW., Washington, DC 20531.

FOR FURTHER INFORMATION CONTACT: For a copy of the solicitation, please call NCJRS 1-800-851-3420. For general information about application procedures for solicitations, please call the U.S. Department of Justice Response Center 1-800-421-6770.

SUPPLEMENTARY INFORMATION:

Authority

This action is authorized under the Omnibus Crime Control and Safe Streets Act of 1968, §§ 201-03, as amended, 42 U.S.C. 3721-23 (1994).

Background

For fiscal year 2001, NIJ will accept proposals for technology-related awards under this solicitation, and several months later it will accept behavioral and social science-related awards under a separate solicitation.

This solicitation is open to a wide variety of proposals in order to achieve a balanced portfolio of technology product development, implementation, and evaluation projects. This solicitation focuses on near-term (one to three years) development and implementation projects.

To assist in obtaining information that may be helpful in submitting a proposal, you are encouraged to use the resources and expertise of the NIJ National Law Enforcement and Corrections Technology Center (NLECTC) located in Rockville, Maryland; and the regional NLECTCs located in Rome, New York; Charleston, South Carolina; Denver, Colorado; El Segundo, California; and the Border Research and Technology Center (BRTC) located in San Diego, California. More information about the NLECTC system is available on the Internet at <http://www.nlectc.org>.

To learn more about projects currently funded by NIJ, on the Internet go to http://www.nlectc.org/techproj/ or call NIJ's Office of Science and Technology at 202-307-0645.

Interested organizations should call the National Criminal Justice Reference Service (NCJRS) at 1-800-851-3420 to obtain a copy of “NIJ Science and Technology Solicitation” (refer to document no. SL000440). For World Wide Web access, connect to either NIJ at http://www.ojp.usdoj.gov/nij/funding.htm, or the NCJRS Justice Information Center at http://www.ncjrs.org/fedgrant.htm#nij.

Dated: September 27, 2000.
Doug Horner,
Acting Assistant Director, National Institute of Justice.

[FR Doc. 00-25623 Filed 10-4-00; 8:45 am]

BILLING CODE 4410-18-P